DEPARTMENT OF COMMERCE

Bureau of Economic Analysis

Proposed Information Collection; Comment Request; Ocean Freight Revenues and Foreign Expenses of United States Carriers (Form BE-30) and U.S. Airline Operators' Foreign Revenues and Expenses (Form BE-37)

ACTION: Notice.

SUMMARY: The Department of Commerce, as part of its continuing effort to reduce paperwork and respondent burden, invites the general public and other Federal agencies to comment on proposed and/or continuing information collections, as required by the Paperwork Reduction Act of 1995.

DATES: Written comments must be submitted on or before 5:00 p.m. September 11, 2012.

ADDRESSES: Direct all written comments to Jennifer Jessup, Departmental Paperwork Clearance Officer, Department of Commerce, Room 6616, 14th and Constitution Avenue NW., Washington, DC 20230, or via email at jjessup@doc.gov.

FOR FURTHER INFORMATION CONTACT: Direct requests for additional information or copies of the survey and instructions to Damon Battaglia, Special Surveys Branch, Balance of Payments Division, (BE-50), Bureau of Economic Analysis, U.S. Department of Commerce, Washington, DC 20230; phone: (202) 606-9826; fax: (202) 606-5318; or via email at damon.battaglia@bea.gov.

SUPPLEMENTARY INFORMATION:

I. Abstract

Form BE-30, Ocean Freight Revenues and Foreign Expenses of United States Carriers, obtains quarterly data from U.S. carriers (owners and operators) that had total covered revenues or total covered expenses of $500,000 or more during the previous year or are expected to be $500,000 or more during the current year. The covered revenues are revenue on cargo outbound from U.S. ports and the associated shipping weight; revenue on cargo inbound into the United States and the associated shipping weight; revenue on cross-trade cargoes; and charter hire (with crew) and space leasing revenues from foreign residents. The covered expenses are expenses in foreign countries and charter hire (with crew) and space leasing payments to foreign residents. The data collected are cut-off sample data. The Bureau of Economic Analysis (BEA) estimates data for non-respondents.

Form BE-37, U.S. Airline Operators' Foreign Revenues and Expenses, obtains quarterly data from U.S. airline operators engaged in the international transportation of goods and/or passengers and whose total annual covered revenues or total annual covered expenses were $500,000 or more during the previous year or are expected to be $500,000 or more during the current year. The covered revenues are the revenues derived from carriage of export freight and express from the United States to points outside the United States; total revenue derived from carriage of freight and express originating from, and destined to, points outside the United States; revenue derived from carriage of passengers originating from, and destined to, points outside the United States; and interline settlement receipts from foreign airline operators. The covered expenses are expenses incurred outside the United States for fuel and oil, station and maintenance bases, wages, and other goods and services purchased abroad [except aircraft (without crew) leasing expenses]; aircraft (with crew) leasing expenses; and interline settlement payments to foreign airline operators. The data collected are cut-off sample data. BEA estimates data for non-respondents.

The data are needed to monitor U.S. international trade in transportation services to analyze its impact on the U.S. and foreign economies, to compile and improve the U.S. economic accounts, to support U.S. commercial policy on trade in transportation services, to conduct trade promotion, and to improve the ability of U.S. businesses to identify and evaluate market opportunities.

Responses will be due within 45 days after the close of each calendar quarter. The data from the survey are primarily intended as general purpose statistics. They are needed to answer any number of research and policy questions related to ocean freight revenues and foreign expenses of United States carriers.

There are two significant changes to the BE-30 survey: (1) A question has been added to collect data on fuel expenses in foreign ports explicitly. Fuel expenses are currently reported indistinguishably within total expenses in foreign ports. (2) The due date for the survey has been changed to 45 days after the end of the calendar quarter from 50 days after the end of the calendar quarter. The remainder of the form is unchanged from the prior version. No changes in exemption levels are proposed.

There are three major changes to the BE-37 survey: (1) Fuel expenses will be collected separately. Fuel expenses are currently reported indistinguishably within total expenses in foreign ports. (2) Two questions have been added to collect data on the number of passengers transported to/from the United States and the revenues associated with these passengers. (3) The due date for the survey has been changed to 45 days after the end of the calendar quarter from 50 days after the end of the calendar quarter. The remainder of the form is unchanged from the prior version. No changes in exemption levels are proposed.

II. Method of Collection

The surveys are sent to the respondents by U.S. mail; the surveys are also available from the BEA Web site. Respondents return the surveys one of four ways: U.S. mail, electronically using BEA's electronic collection system (eFile), fax, or email.

III. Data

OMB Control Number: 0608-0011.

Form Number: BE-30 and BE-37.

Type of Review: Regular submission.

Affected Public: Business or other for-profit organizations.

Estimated Number of Respondents: 65 per quarter; 220 annually (BE-30: 32 per quarter and 128 annually; BE-37: 23 per quarter; 92 annually).

Estimated Time per Response: 4 hours per response for both BE-30 and BE-37.

Estimated Total Annual Burden Hours: 880.

Estimated Total Annual Cost to Public: $0.

Respondent's Obligation: Mandatory.

Legal Authority: The International Investment and Trade in Services Survey Act, 22 U.S.C. 3101-3108, as amended.

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 10, 2012.
Glenna Mickelson,
Management Analyst, Office of Chief Information Officer.

[FR Doc. 2012-17140 Filed 7-12-12; 8:45 am]

BILLING CODE 3510-06-P